DEPARTMENT OF COMMERCE

Census Bureau

Proposed Information Collection; Comment Request; Spatial, Address, and Imagery Data (SAID) Program

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before September 10, 2018.

ADDRESSES: Direct all written comments to Jennifer Jessup, Departmental Paperwork Clearance Officer, Department of Commerce, Room 6625, 14th and Constitution Avenue NW, Washington, DC 20230 (or via the internet at PRAcomments@doc.gov). You may also submit comments, identified by Docket Number USBC-2018-0010, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, WordPerfect, or Adobe PDF file formats only

FOR FURTHER INFORMATION CONTACT: Requests for additional information or copies of the information collection instrument(s) and instructions should be directed to Robin A. Pennington, U.S. Census Bureau, 4600 Silver Hill Road, Washington, DC 20233 (or through the internet at robin.a.pennington@census.gov).

SUPPLEMENTARY INFORMATION:

I. Abstract

The Spatial, Address, and Imagery Data (SAID) Program, formerly known as the Geographic Support System (GSS) Partnership Program, is one of seven voluntary geographic partnership programs that collect data to update the U.S. Census Bureau's geographic database of addresses, streets, boundaries, and imagery known as the Master Address File/Topologically Integrated Geocoding and Referencing (MAF/TIGER) System. The data collected in the SAID Program is also used to define geographic boundaries, including census blocks, and to place households and group quarters in a specific census block. The Census Bureau uses the MAF/TIGER System to link demographic data from surveys and the decennial census to locations and areas, such as cities, school districts, and counties. To properly tabulate statistics by geography, the Census Bureau must have accurate and current addresses and boundaries.

The SAID Program follows the process below:

1. The Census Bureau invites participants, including tribal, state, county, and local governments; federal agencies; and other organizations each fiscal year.

2. Participants provide a current address list with associated points and attributes, spatial data, and/or imagery that is no more than two years old.

3. Participants upload the requested data files to a Census Bureau Secure File Transfer Protocol site, per Census Bureau procedures.

4. The Census Bureau updates the MAF/TIGER System with the address and street centerline data provided by the participants, and uses the provided imagery for quality control and change detection.

5. The Census Bureau uses these updated addresses and streets to support all Census Bureau field operations, surveys, and data tabulation.

The SAID Program complements the 2020 Census In-Office Address Canvassing Operation and 2020 Census Local Update of Census Addresses Operation (LUCA) by improving address coverage, collecting and updating street features, and enhancing the overall quality and integrity of the MAF/TIGER System. The SAID Program collects addresses annually, while LUCA occurs once per decade. The SAID Program supports a reengineered address canvassing methodology for the 2020 Census and beyond, allowing the Census Bureau to limit expensive field operations to those areas of the country where housing unit change and growth is occurring. The SAID Program provides the Census Bureau with a continuous method to obtain current, accurate, and complete address, spatial, and imagery data. The SAID Program helps the Census Bureau maintain its geographic framework for data collection, tabulation, and dissemination between decennial censuses and to support ongoing programs, such as the American Community Survey and the Population Estimates Program. Over the past six years, the SAID Program, under the name of the Geographic Support System (GSS) Partnership Program, has enabled the Census Bureau to update addresses and street centerlines across the country, with participation covering nearly 89 percent of the housing units in the nation. Moving forward, the SAID Program will continue to focus on acquiring addresses, street centerlines, and imagery in targeted areas.

II. Method of Collection

Each year, the Census Bureau identifies areas to invite to participate in the SAID program through varios evaluation factors, such as address growth, address change, comparison with other Census Bureau statistics, and past SAID or GSS Partnership Program participation status. The Census Bureau contacts potential participants by telephone and email to request addresses, street centerlines, and imagery data that are no more than two years old, along with supporting metadata. When invitees agree to participate, the Census Bureau sends them instructions on creating a Secure Web Incoming Module (SWIM) account, which is used for secure file transfers to the Census Bureau. Participants then submit their data in a single submission through the SWIM at their convenience. If a participant submits files with inadequate metadata, the Census Bureau requests the appropriate metadata, such as date of last update, frequency of updates, and source description from the participant. The Census Bureau will only process the files with appropriate metadata.

III. Data

OMB Control Number: 0607-0795.

Form Number:

Type of Review: Regular submission.

Affected Public: Tribal, state, county, and local governments and other organizations.

Estimated Number of Respondents (Fiscal Year (FY) 2019):

Census Bureau Contact with Local Governments: 1,000.

Census Bureau Acquisition of Local Geographic Data and Content Clarification: 500.

Estimated Number of Respondents (FY 2020):

Census Bureau Contact with Local Governments: 1,000.

Census Bureau Acquisition of Local Geographic Data and Content Clarification: 500.

Estimated Number of Respondents (FY 2021):

Census Bureau Contact with Local Governments: 1,000.

Census Bureau Acquisition of Local Geographic Data and Content Clarification: 500.

Estimated Time per Response (all FYs):

Census Bureau Contact with Local Governments: 2 hours.

Census Bureau Acquisition of Local Geographic Data and Content Clarification: 10 hours.

Estimated Total Annual Burden Hours (FY 2019):

Census Bureau Contact with Local Governments: 2,000.

Census Bureau Acquisition of Local Geographic Data and Content Clarification: 5,000.

Estimated Total Annual Burden Hours (FY 2020):

Census Bureau Contact with Local Governments: 2,000.

Census Bureau Acquisition of Local Geographic Data and Content Clarification: 5,000.

Estimated Total Annual Burden Hours (FY 2021):

Census Bureau Contact with Local Governments: 2,000.

Census Bureau Acquisition of Local Geographic Data and Content Clarification: 5,000.

Calculation of total burden | Burden hours per contact | FY 2019 | FY 2020 | FY 2021 | Total
Contact with Local Governments | 2 | 2,000 | 2,000 | 2,000 | 6,000
Acquisition of Local Data | 10 | 5,000 | 5,000 | 5,000 | 15,000
Total Burden | 12 | 7,000 | 7,000 | 7,000 | 21,000

Estimated Total Annual Cost to Public: $0. (This is not the cost of respondents' time, but the indirect costs respondents may incur for such things as purchases of specialized software or hardware needed to report, or expenditures for accounting or records maintenance services required specifically by the collection.)

Respondent Obligation: Voluntary.

Legal Authority: Title 13 U.S.C. 16, 141, and 193.

V. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Summarization of comments submitted in response to this notice will be included in the request for OMB approval of this information collection. Comments will also become a matter of public record.

Sheleen Dumas,
Departmental Lead PRA Officer, Office of the Chief Information Officer.

[FR Doc. 2018-14695 Filed 7-9-18; 8:45 am]

BILLING CODE 3510-07-P